NATIONAL FOUNDATION ON THE ARTS AND THE HUMANITIES

National Endowment for the Humanities

Meeting of National Council on the Humanities

AGENCY: National Endowment for the Humanities; National Foundation on the Arts and the Humanities.

ACTION: Notice of meeting.

SUMMARY: Pursuant to the Federal Advisory Committee Act, notice is hereby given that the National Council on the Humanities will meet to review applications for financial assistance under the National Foundation on the Arts and Humanities Act of 1965 and make recommendations thereon to the Chairman of the National Endowment for the Humanities (NEH).

DATES: The meeting will be held on Thursday, August 19, 2021, from 10:30 a.m. until 2:00 p.m., and on Friday, August 20, 2021, from 11:00 a.m. until adjourned.

ADDRESSES: The meeting will be held by videoconference originating at Constitution Center, 400 7th Street SW, Washington, DC 20506.

FOR FURTHER INFORMATION CONTACT: Elizabeth Voyatzis, Committee Management Officer, 400 7th Street SW, 4th Floor, Washington, DC 20506; (202) 606-8322; evoyatzis@neh.gov.

SUPPLEMENTARY INFORMATION: The National Council on the Humanities is meeting pursuant to the National Foundation on the Arts and Humanities Act of 1965 (20 U.S.C. 951-960, as amended).

The National Council will convene in executive session by videoconference on August 19, 2021, from 10:30 a.m. until 10:50 a.m.

The following Committees of the National Council on the Humanities will convene by videoconference on August 19, 2021, from 11:00 a.m. until 2:00 p.m., to discuss specific grant applications and programs for The American Rescue Plan (ARP) Act funding before the Council:

ARP Organizations Committee 1 (Office of Digital Humanities);

ARP Organizations Committee 2 (Division of Education Programs);

ARP Organizations Committee 3 (Division of Preservation and Access);

ARP Organizations Committee 4 (Division of Public Programs);

ARP Organizations Committee 5 (Division of Research Programs); and

ARP Grantmaking Programs (Office of Challenge Programs and Division of Research Programs).

The plenary session of the National Council on the Humanities will convene by videoconference on August 20, 2021, at 11:00 a.m. After remarks from the Acting Chairman and Chief of Staff, the Council will hear reports on and consider applications for NEH ARP funding. The agenda for the plenary session will be as follows:

A. Introductions and Remarks

1. Acting Chairman's Remarks

2. Chief of Staff's Remarks

B. ARP Organizations Committee 1 (Office of Digital Humanities);

C. ARP Organizations Committee 2 (Division of Education Programs);

D. ARP Organizations Committee 3 (Division of Preservation and Access);

E. ARP Organizations Committee 4 (Division of Public Programs);

F. ARP Organizations Committee 5 (Division of Research Programs); and

G. ARP Grantmaking Programs (Office of Challenge Programs and Division of Research Programs)

This meeting of the National Council on the Humanities will be closed to the public pursuant to sections 552b(c)(4), 552b(c)(6), and 552b(c)(9)(B) of Title 5 U.S.C., as amended, because it will include review of personal and/or proprietary financial and commercial information given in confidence to the agency by grant applicants, and discussion of certain information, the premature disclosure of which could significantly frustrate implementation of proposed agency action. I have made this determination pursuant to the authority granted me by the Chairman's Delegation of Authority to Close Advisory Committee Meetings dated April 15, 2016.

Dated: August 2, 2021.
Elizabeth Voyatzis,
Committee Management Officer.

[FR Doc. 2021-16764 Filed 8-4-21; 8:45 am]

BILLING CODE 7536-01-P